DEPARTMENT OF COMMERCE

National Institute of Standards and Technology

Announcement of a Meeting to Explore Feasibility of Establishing a NIST/Industry Consortium on the Constituent Contribution to the Service Life of a Coating System

AGENCY: National Institute of Standards and Technology, Commerce.

ACTION: Notice of public meeting.

SUMMARY: The National Institute of Standards and Technology (NIST) invites interested parties to attend a pre-consortium meeting to be held on May 16 and 17, 2006 at the NIST main campus in Gaithersburg, MD. The objective of this two-day meeting is to evaluate industry interest in the fourth phase of the Coatings Service Life Prediction Consortium. The goals of this consortium include the development of measurement methods and mathematical models for ascertaining the service life response of filled coatings containing pigments having a range of photoreactivities exposed in both the laboratory and the field. For this particular phase of research, the filler of interest will be titanium dioxide nanoparticles and pigments dispersed in both a thermoplastic and a thermoset matrix. NIST staff members along with at least one technical representative from each participating member company will conduct consortium research and development. Membership in the Consortium is open to the coatings community, particularly coating manufacturers, raw material suppliers, and equipment manufacturers. The term of the consortium is intended to be four years.

DATES: The meeting will take place on Tuesday, May 16, 2006 from 9 a.m. to 5 p.m. and on Wednesday, May 17, 2006 from 9 a.m. to noon. Interested parties should contact NIST at the address, telephone number or fax number shown below to confirm their interest and to gain entry into the NIST facility.

ADDRESSES: The meeting will take place at the National Institute of Standards and Technology (NIST), 100 Bureau Drive, Gaithersburg, MD 20899, Building 224, Room B245.

FOR FURTHER INFORMATION CONTACT: Jonathan W. Martin or Joannie Chin, Polymeric Materials Group, National Institute of Standards and Technology (NIST), 100 Bureau Drive MS 8615, Gaithersburg, MD 20899. Telephone: (301) 975-6707; fax: 301 990-6891; e-mail: jonathan.martin@nist.gov or joannie.chin@nist.gov.

SUPPLEMENTARY INFORMATION: Any program undertaken will be within the scope and confines of The Federal Technology Transfer Act of 1986 (Pub. L. 99-502, 15 U.S.C. 3710a), which provides federal laboratories including NIST, with the authority to enter into cooperative research agreements with qualified parties. Under this law, NIST may contribute personnel, equipment, and facilities but no funds to the cooperative research program. This is not a grant program.

Dated: January 26, 2006.
William Jeffrey,
Director.

[FR Doc. E6-1199 Filed 1-30-06; 8:45 am]

BILLING CODE 3510-13-P